SECURITIES AND EXCHANGE COMMISSION

Sunshine Act Meetings; Notice

Federal Register Citation of Previous Announcement:

[70 FR 74850, December 16, 2005].

Status: Closed Meeting.

Place: 100 F Street, NE., Washington, DC.

Announcement of Additional Meetings: Additional Meetings (Week of December 19, 2005).

Closed Meetings have been scheduled for Wednesday, December 21, 2005 at 9 a.m. and Thursday, December 22, 2005 at 9:30 a.m.

Commissioners, Counsel to the Commissioners, the Secretary to the Commission, and recording secretaries may attend the Closed Meetings. Certain staff members who have an interest in the matters may also be present.

The General Counsel of the Commission, or his designee, has certified that, in his opinion, one or more of the exemptions set forth in 5 U.S.C. 552b(c)(5), (7), (9)(B) and (10) and 17 CFR 200.402(a)(5), (7), 9(ii) and (10) permit consideration of the scheduled matter at the Closed Meetings.

Commissioner Glassman, as duty officer, voted to consider the items listed for the closed meetings in closed sessions and that no earlier notice thereof was possible.

The subject matter of the Closed Meeting scheduled for Wednesday, December 21, 2005 will be: Institution and settlement of injunctive actions; and Institution and settlement of administrative proceedings of an enforcement matter.

The subject matter of the Closed Meeting scheduled for Thursday, December 22, 2005 will be: Institution of injunctive actions; and Institution and settlement of administrative proceedings of an enforcement matter.

At times, changes in Commission priorities require alterations in the scheduling of meeting items. For further information and to ascertain what, if any, matters have been added, deleted or postponed, please contact: The Office of the Secretary at (202) 551-5400.

Dated: December 20, 2005.
Jonathan G. Katz,
Secretary.

[FR Doc. 05-24477 Filed 12-21-05; 1:41 pm]

BILLING CODE 8010-01-P